DEPARTMENT OF ENERGY

Federal Energy Regulatory Commission

Combined Notice of Filings #1

Take notice that the Commission received the following electric rate filings:

Docket Numbers: ER25-3436-000.

Applicants: Bel Air Solar I, LLC.

Description: Initial Rate Filing: Bel_Air_Solar_I_MBRA_App to be effective 11/16/2025.

Filed Date: 9/16/25.

Accession Number: 20250916-5000.

Comment Date: 5 p.m. ET 10/7/25.

Docket Numbers: ER25-3437-000.

Applicants: American Transmission Systems, Incorporated.

Description: § 205(d) Rate Filing: ATSI submits two Construction Agmts—SA Nos. 7487 & 7489 to be effective 11/9/2025.

Filed Date: 9/16/25.

Accession Number: 20250916-5012.

Comment Date: 5 p.m. ET 10/7/25.

Docket Numbers: ER25-3438-000.

Applicants: Southwest Power Pool, Inc.

Description: § 205(d) Rate Filing: Tariff Clean-Up Filing Effective 20251001 to be effective 10/1/2025.

Filed Date: 9/16/25.

Accession Number: 20250916-5028.

Comment Date: 5 p.m. ET 10/7/25.

Docket Numbers: ER25-3440-000.

Applicants: Atem Energy LLC.

Description: Initial Rate Filing: Application for Market Based Rate to be effective 11/16/2025.

Filed Date: 9/16/25.

Accession Number: 20250916-5089.

Comment Date: 5 p.m. ET 10/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 16, 2025.
Carlos D. Clay,
Deputy Secretary.

[FR Doc. 2025-18173 Filed 9-18-25; 8:45 am]

BILLING CODE 6717-01-P